DEPARTMENT OF AGRICULTURE

Farm Service Agency

[Docket ID: FSA-2021-0015]

Information Collection Requests; Pandemic Livestock Indemnity Program (PLIP) and Pandemic Assistance for Timber and Haulers and Harvesters (PATHH)

AGENCY: Farm Service Agency, USDA.

ACTION: Notice; request for comments.

SUMMARY: In accordance with the Paperwork Reduction Act of 1995, the Farm Service Agency (FSA) is requesting comments from all interested individuals and organizations on an extension of a currently approved information collections associated with Pandemic Livestock Indemnity Program (PLIP) and Pandemic Assistance for Timber and Haulers and Harvesters (PATHH) Program. FSA is making PLIP payments to livestock and poultry producers for losses of livestock or poultry depopulated before December 27, 2020, due to insufficient processing access, based on 80 percent of the fair market value of the livestock and poultry, and for the cost of depopulation (other than costs already compensated under the Environmental Quality Incentives Program). FSA is also providing assistance to timber harvesting businesses and timber hauling businesses impacted by the effects of the COVID-19 Outbreak.

DATES: We will consider comments that we receive by January 31, 2022.

ADDRESSES: We invite you to submit comments on this notice. You may submit comments by any of the following methods:

• Federal eRulemaking Portal: Go to: www.regulations.gov and search for Docket ID FSA-2021-0015. Follow the online instructions for submitting comments.

• Mail, Hand-Delivery, or Courier: Director, Safety Net Division, FSA, USDA, 1400 Independence Avenue SW, Stop 0510, Washington, DC 20250- 0522.

You may also send comments to the Desk Officer for Agriculture, Office of Information and Regulatory Affairs, Office of Management and Budget, Washington, DC 20503. Copies of the information collection may be requested by contacting Brittany Ramsburg.

FOR FURTHER INFORMATION CONTACT: For specific questions related to collection activities, contact Brittany Ramsburg by telephone: (202) 260-9303; or by email: brittany.ramsburg@usda.gov. Persons with disabilities who require alternative means for communication should contact the USDA Target Center at (202) 720-2600 or (844) 433-2774 (toll-free nationwide).

SUPPLEMENTARY INFORMATION: Both information collections are being extended to continue the OMB approval for any additional information that may be needed until their payment process is fully completed. The 2 information collection requests are described as follows:

Title: Pandemic Livestock Indemnity Program (PLIP).

OMB Control Number: 0560-0301.

OMB Expiration Date: 01/31/2022.

Type of Request: Extension.

Abstract: FSA is making PLIP payments to livestock and poultry producers for losses of livestock or poultry depopulated before December 27, 2020, due to insufficient processing access, based on 80 percent of the fair market value of the livestock and poultry, and for the cost of depopulation (other than costs already compensated under the Environmental Quality Incentives Program).

The annual burden hours and the numbers of respondents and responses did not change since the OMB submission.

For the following estimated total annual burden on respondents, the formula used to calculate the total burden hour is the estimated average time per response multiplied by the estimated total annual responses.

Estimate of Respondent Burden: Public reporting burden for this information collection is estimated to average 0.55 hours per response to include the time for reviewing instructions, searching information, gathering and maintaining information, and completing and reviewing the collection of information.

Respondents: Individuals or households, businesses or other for profit farms.

Estimated Annual Number of Respondents: 2,546.

Estimated Number of Reponses per Respondent: 1.

Estimated Total Annual Responses: 2,546.

Estimated Average Time per Response: 0.55 hours.

Estimated Total Annual Burden on Respondents: 1,408 hours.

Title: PATHH Program.

OMB Control Number: 0560-0302.

OMB Expiration Date: 01/31/2022.

Type of Request: Extension.

Abstract: FSA is providing assistance to timber harvesting businesses and timber hauling businesses impacted by the effects of the COVID-19 Outbreak. PATHH eligibility for direct payments to eligible applicants who have suffered a gross revenue loss of at least 10 percent for the period from January 1 through December 1, 2020, compared to the period from January 1 through December 1, 2019. Two principal agencies will implement PATHH, the Farm Service Agency (FSA) and the United States Forest Service (FS). The program is under the general supervision and direction of the Administrator of FSA, and FS provides technical support.

The annual burden hours and the numbers of respondents and responses did not change since the last OMB submission.

For the following estimated total annual burden on respondents, the formula used to calculate the total burden hour is the estimated average time per response multiplied by the estimated total annual responses.

Estimate of Respondent Burden: Public reporting burden for this information collection is estimated to average 0.18 hours per response to include the time for reviewing instructions, searching information, gathering and maintaining information, and completing and reviewing the collection of information.

Respondents: Individuals or households, businesses or other for profit farms.

Estimated Annual Number of Respondents: 2,396.

Estimated Number of Reponses per Respondent: 2.8997.

Estimated Total Annual Responses: 6,948.

Estimated Average Time per Response: 0.18 hours.

Estimated Total Annual Burden on Respondents: 815 hours.

We are requesting comments on all aspects of these information collections to help us to:

(1) Evaluate whether the collection of information is necessary for the proper performance of the functions of the FSA, including whether the information will have practical utility;

(2) Evaluate the accuracy of the FSA's estimate of burden including the validity of the methodology and assumptions used;

(3) Enhance the quality, utility, and clarity of the information to be collected; or

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Zach Ducheneaux,
Administrator, Farm Service Agency.

[FR Doc. 2021-26080 Filed 11-29-21; 8:45 am]

BILLING CODE 3410-05-P